DEPARTMENT OF EDUCATION

[Docket ID ED-2025-OPEPD-0022]

Privacy Act of 1974; System of Records

AGENCY: U.S. Department of Education.

ACTION: Notice of a modified system of records.

SUMMARY: In accordance with the Privacy Act of 1974, the U.S. Department of Education (Department) is modifying the systems of records listed in this notice to incorporate a routine use related to investigating potential fraud, waste, and abuse pursuant to Executive Order 14249, “Protecting America's Bank Account Against Fraud, Waste, and Abuse” and Office of Management and Budget (OMB) Memorandum M-25-32, “Preventing Improper Payments and Protecting Privacy Through Do Not Pay.” This modification addresses the requirement under the Executive Order to establish a routine use that allows for the “disclosure of records to the Department of the Treasury for the purposes of identifying, preventing, or recouping fraud and improper payments, to the extent permissible by law.”

DATES: Submit your comments on these modified system of records notices on or before January 8, 2026.

The routine use outlined in the section titled “ROUTINE USES OF RECORDS MAINTAINED IN THE SYSTEM, INCLUDING CATEGORIES OF USERS AND PURPOSES OF SUCH USES” will become applicable on the expiration of the 30-day period of public comment on January 8, 2026, unless they need to be changed as a result of public comment. The Department will publish any significant changes to the systems of records or routine uses resulting from public comment.

ADDRESSES: Comments must be submitted via the Federal eRulemaking Portal at regulations.gov. However, if you require an accommodation or cannot otherwise submit your comments via regulations.gov, please contact the program contact listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ”.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or aid, please contact the person listed under FOR FURTHER INFORMATION CONTACT.

FOR FURTHER INFORMATION CONTACT: Mr. Frank E. Miller, Jr., Senior Agency Official for Privacy, Student Privacy Policy Office, Office of Planning, Evaluation and Policy Development, U.S. Department of Education, 400 Maryland Ave. SW, Washington, DC 20202. Telephone: (202) 453-6631. Email: Frank.E.Miller@ed.gov.

If you are deaf, hard of hearing, or have a speech disability and wish to access telecommunications relay services, please dial 7-1-1.

SUPPLEMENTARY INFORMATION: On March 25, 2025, the President of the United States of America issued Executive Order 14249, “Protecting America's Bank Account from Fraud, Waste, and Abuse,” directing Federal agencies to share information with the U.S. Department of the Treasury to mitigate fraud, waste, and abuse across the Federal government. Section 3(d) of this Executive Order requires Federal agencies to modify relevant system of records notices to include a routine use allowing for the “disclosure of records to the Department of the Treasury for the purposes of identifying, preventing, or recouping fraud and improper payments, to the extent permissible by law.”

Subsequently, on August 20, 2025, the Office of Management and Budget (OMB) issued Memorandum M-25-32, “Preventing Improper Payments and Protecting Privacy Through Do Not Pay,” clarifying the modifications required to be made to system of records notices under Executive Order 14249. Specifically, M-25-32 requires a routine use be added for any system that may disclose information to the U.S. Department of the Treasury for identifying, preventing, or recouping improper payments by reviewing payment and award eligibility through the Do Not Pay Working System.

The Department is modifying the systems of records identified in this Notice to include the routine use set forth in Section 3(d) of Executive Order 14249 and M-25-32, Appendix I.

Accessible Format: On request to the program contact persons listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Murray Bessette,
Acting Assistant Secretary, Office of Planning, Evaluation, and Policy Development.

For the reasons discussed in the preamble, the Acting Assistant Secretary, Office of Planning, Evaluation, and Policy Development of the U.S. Department of Education (Department) publishes a modified system of records notice, as follows:

SYSTEM NAME AND NUMBER:

The systems of records to be modified by including the new routine use described in this notice are listed below. An asterisk (*) designates the last publication of the complete document in the Federal Register. Any history prior to the last publication in the Federal Register is omitted for clarity.

SORN No. | SORN name | FR citation
18-04-04 | Education Central Automated Processing System (EDCAPS) | 80 FR 80331, 64 FR 30114.*
18-11-17 | Financial Management System (FMS) | 73 FR 179.*

SECURITY CLASSIFICATION:

Unclassified.

SYSTEM LOCATION:

The appropriate Department program, as identified in each notice listed above, governs each respective system of records.

SYSTEM MANAGER(S):

The applicable program executive is identified in each notice listed above.

ROUTINE USES OF RECORDS MAINTAINED IN THE SYSTEM, INCLUDING CATEGORIES OF USERS AND PURPOSES OF SUCH USES:

In addition to disclosures generally permitted under 5 U.S.C. 552a(b), all or a portion of the records or information contained in the systems identifier above may be disclosed outside the Department pursuant to 5 U.S.C. 552a(b)(3) as follows: “To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.”

HISTORY:

See the notice for the systems listed above.

[FR Doc. 2025-22310 Filed 12-8-25; 8:45 am]

BILLING CODE 4000-01-P